DEPARTMENT OF LABOR

Employment and Training Administration

[TA-W-55,520; TA-W-55,520A]

Galey & Lord Industries, Inc. Now Known as Galey & Lord Industries, LLC, New York Office New York, New York; Galey & Lord Industries, Inc. Now Known As Galey & Lord Industries, LLC Greensboro Textile Administration LLC, Greensboro Office, Greensboro, NC; Amended Certification Regarding Eligibility To Apply for Worker Adjustment Assistance and Alternative Trade Adjustment Assistance

In accordance with Section 223 of the Trade Act of 1974 (19 U.S.C. 2273) the Department of Labor issued Amended Certification Regarding Eligibility to Apply for Worker Adjustment Assistance and Alternative Trade Adjustment Assistance on September 20, 2004, applicable to workers of Galey & Lord Industries, Inc., New York, New York and Galey & Lord Industries, Inc., Greensboro Corporate Office, Greensboro, North Carolina. The notice was published in the Federal Register on October 4, 2004 (69 FR 62463).

At the request of a company official, the Department reviewed the certification for workers of the subject firm. The workers are engaged in the production of cotton fabric.

New information shows that Galey & Lord Industries, Inc., New York, New York is now known as Galey & Lord Industries, LLC, New York Office, New York, New York and Galey & Lord Industries, Inc., is now known as Galey & Lord Industries, LLC, Greensboro Textile Administration LLC, Greensboro Office, Greensboro, North Carolina. Workers separated from employment at the subject firm had their wages reported under two separate unemployment insurance (UI) tax accounts for Galey & Lord Industries, LLC, New York Office, New York, New York and Galey & Lord Industries, LLC, Greensboro Textile Administration LLC, Greensboro Office, Greensboro, North Carolina.

Accordingly, the Department is amending this certification to properly reflect this matter.

The intent of the Department's certification is to include all workers of Galey & Lord Industries, Inc., now known as Galey & Lord Industries, LLC, New York Office, New York, New York and Galey & Lord Industries, Inc., now known as Galey & Lord Industries, LLC, Greensboro Textile Administration LLC, Greensboro Office, Greensboro, North Carolina who were adversely affected by increased imports.

The amended notice applicable to TA-W-55,520 and TA-W-55,520A are hereby issued as follows:

All workers of Galey & Lords Industries, Inc., now known as Galey & Lords Industries, LLC, New York Office, New York, New York (TA-W-55,520) and Galey & Lord Industries, Inc., now known as Galey & Lord Industries, LLC, Greensboro Textile Administration LLC, Greensboro Office, Greensboro, North Carolina (TA-W-55,520A) who became totally or partially separated from employment on or after August 24, 2003, through September 20, 2006, are eligible to apply for adjustment assistance under Section 223 of the Trade Act of 1974, and are also eligible to apply for alternative trade adjustment assistance under Section 246 of the Trade Act of 1974.

Signed at Washington, DC this 9th day of March 2005.
Linda G. Poole,
Certifying Officer, Division of Trade Adjustment Assistance.

[FR Doc. E5-1244 Filed 3-21-05; 8:45 am]

BILLING CODE 4510-30-P